DEPARTMENT OF ENERGY

Federal Energy Regulatory Commission

[Docket Nos. RP00-411-010 and RP01-44-007]

Iroquois Gas Transmission System, L.P.; Notice of Compliance Filing

June 19, 2003.

Take notice that on June 13, 2003, Iroquois Gas Transmission System, L.P. (Iroquois) tendered for filing as part of its FERC Gas Tariff, First Revised Volume No. 1, the following tariff sheets proposed to become effective on November 1, 2002:

Substitute Original Sheet No. 65A

Second Substitute Original Sheet No. 65C

Substitute Original Sheet No. 65D

Substitute Original Sheet No. 65E

Iroquois states that the instant tariff filing is being filed in compliance with the Commission's May 29, 2003, Order to remove language that Iroquois had originally submitted regarding proposed cash-out provisions to deal with the imbalances left on its system.

Iroquois states that copies of its filing were served on all jurisdictional customers and interested state regulatory agencies and all parties to the proceeding.

Any person desiring to be heard or to protest said filing should file a motion to intervene or a protest with the Federal Energy Regulatory Commission, 888 First Street, NE., Washington, DC 20426, in accordance with sections 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 25, 2003.

Magalie R. Salas,
Secretary.

[FR Doc. 03-16209 Filed 6-25-03; 8:45 am]

BILLING CODE 6717-01-P